DEPARTMENT OF COMMERCE

International Trade Administration

[A-570-803]

Heavy Forged Hand Tools, Finished or Unfinished, With or Without Handles From the People's Republic of China: Continuation of Antidumping Duty Orders

AGENCY: Enforcement and Compliance, International Trade Administration, Department of Commerce.

SUMMARY: As a result of the determinations by the Department of Commerce (the Department) and the International Trade Commission (ITC) that revocation of the antidumping duty (AD) orders on heavy forged hand tools, finished or unfinished, with or without handles (HFHTs) from the People's Republic of China (PRC) would likely lead to a continuation or recurrence of dumping and material injury to an industry in the United States, the Department is publishing this notice of continuation of the AD orders.

DATES: Effective January 6, 2017.

FOR FURTHER INFORMATION CONTACT: Paul Walker, AD/CVD Operations, Enforcement and Compliance, International Trade Administration, U.S. Department of Commerce, 14th Street and Constitution Avenue NW., Washington, DC 20230; telephone: 202.482.0413.

SUPPLEMENTARY INFORMATION:

Background

On February 19, 1991, the Department published the AD orders on HFHTs from the PRC.¹ On July 1, 2016, the Department published the notice of initiation of the fourth sunset review of the AD orders on HFHTs from the PRC, pursuant to section 751(c) of the Tariff Act of 1930, as amended (the Act).² As a result of its review, the Department determined that revocation of the AD orders would likely lead to a continuation or recurrence of dumping.³ The Department, therefore, notified the ITC of the magnitude of the margins likely to prevail should the AD orders be revoked. On December 20, 2016, the ITC published its determination that revocation of the AD orders on HFHTs from the PRC would likely lead to continuation or recurrence of material injury to an industry in the United States within a reasonably foreseeable time, pursuant to section 751(c) of the Act.⁴

¹ See Antidumping Duty Orders: Heavy Forged Hand Tools, Finished or Unfinished, With or Without Handles From the People's Republic of China, 56 FR 6622 (February 19, 1991). There are four orders on HFHTs from the PRC: axes & adzes, bars & wedges, hammers & sledges, and picks & mattocks.

² See Initiation of Five-Year (“Sunset”) Review, 81 FR 43185 (July 1, 2016).

³ See Heavy Forged Hand Tools, Finished or Unfinished, With or Without Handles from the People's Republic of China: Final Results of the Expedited Fourth Sunset Review of the Antidumping Duty Orders, 81 FR 78777 (November 9, 2016) (Final Results) and accompanying Issues and Decision Memorandum.

⁴ See Heavy Forged Hand Tools from China: Investigation No. 731-TA-457-A-D (Fourth Review), USITC Publication 4654 (December 2016); see also Heavy Forged Hand Tools from China; Determination, 81 FR 92852 (December 20, 2016).

Scope of the Orders

The merchandise covered by these orders are hand tools comprising the following classes or kinds of merchandise: (1) Hammers and sledges with heads over 1.5 kg (3.33 pounds); (2) bars over 18 inches in length, track tools and wedges; (3) picks and mattocks; and (4) axes, adzes and similar hewing tools. Subject hand tools are manufactured through a hot forge operation in which steel is sheared to required length, heated to forging temperature, and formed to final shape on forging equipment using dies specific to the desired product shape and size. These products are classifiable under tariff article codes 8205.20.60, 8205.59.30, 8201.30.00, and 8201.40.60 of the Harmonized Tariff Schedule of the United States (“HTSUS”). Although the HTSUS subheadings are provided for convenience and customs purposes, the written description of the scope of the AD orders is dispositive.⁵

⁵ See Final Results, and accompanying Issues and Decision Memorandum at “III. Scope of the Orders.”

Continuation of the Orders

As a result of the determinations by the Department and the ITC that revocation of the AD orders would likely lead to continuation or recurrence of dumping and material injury to an industry in the United States, pursuant to section 751(d)(2) of the Act and 19 CFR 351.218(a), the Department hereby orders the continuation of the AD orders on HFHTs from the PRC. United States Customs and Border Protection will continue to collect AD cash deposits at the rates in effect at the time of entry for all imports of subject merchandise.

The effective date of the continuation of the AD orders will be the date of publication in the Federal Register of this notice of continuation. Pursuant to section 751(c)(2) of the Act, the Department intends to initiate the next five-year review of the AD orders not later than 30 days prior to the fifth anniversary of the effective date of continuation.

This five-year sunset review and this notice are in accordance with section 751(c) of the Act and published pursuant to section 777(i)(1) of the Act and 19 CFR 351.218(f)(4).

Dated: December 29, 2016.
Paul Piquado,
Assistant Secretary for Enforcement and Compliance.

[FR Doc. 2017-00030 Filed 1-5-17; 8:45 am]

BILLING CODE 3510-DS-P